DEPARTMENT OF JUSTICE

National Institute of Justice

[OJP (NIJ) Docket No. 1796]

Technologies To Measure Community Perception, Opinion, and/or Satisfaction Related to Law Enforcement: Market Survey

AGENCY: National Institute of Justice (NIJ), Office of Justice Programs, Justice.

ACTION: Notice of request for information.

SUMMARY: The National Institute of Justice (NIJ) is soliciting information for an upcoming Criminal Justice Testing and Evaluation Consortium (CJTEC) report that will provide a functional overview of how law enforcement agencies can utilize technology to measure and monitor community perception, opinion, and/or satisfaction related to law enforcement, to improve police performance and overall community-police relations. The report will highlight the providers and vendors that are developing and offering technologies that measure/monitor the community's perception, opinion, and/or satisfaction related to law enforcement. The report will also consider sentiment monitoring tools in terms of the broader context of the rapidly evolving marketplace for sentiment analysis products, including the monitoring of customers' perception of brands.

DATES: Emailed responses must be received (and mailed responses postmarked) by 5:00 p.m. Eastern Time on April 8, 2022.

ADDRESSES: Responses to this request may be submitted electronically by email, with the subject line “Technologies to Measure Community Perception, Opinion, and/or Satisfaction related to Law Enforcement: Market Survey Federal Register Response” to Meghan Camello at mcamello@rti.org_ . Responses may also be sent by mail to the following address: Criminal Justice Testing and Evaluation Consortium (CJTEC), ATTN: Meghan Camello, Technologies to Measure Community Perception, Opinion, and/or Satisfaction related to Law Enforcement: Market Survey Federal Register Response, RTI International, P.O. Box 12194, 3040 E Cornwallis Road, Research Triangle Park, NC 27709-2194.

FOR FURTHER INFORMATION CONTACT: For more information on this market survey, please contact Meghan Camello (CJTEC) by telephone at 603-801-5127 or mcamello@rti.org. For more information on the NIJ CJTEC, visit https://nij.ojp.gov/funding/awards/2018-75-cx-k003 and view the description, or contact Steven Schuetz (NIJ) by telephone at 202-514-7663 or at steven.schuetz@usdoj.gov. Please note that these are not toll-free telephone numbers.

SUPPLEMENTARY INFORMATION: Information sought: CJTEC is seeking information on products, such as sentiment analysis, measuring, and monitoring technologies, that may be applicable to law enforcement agencies. Specifically, CJTEC is seeking solutions that fit one or more of these categories:

• Tools, technology, and products designed for the law enforcement community to measure or monitor community perception, sentiment, opinion, and/or satisfaction

• Products designed as consumer/corporate sentiment analysis and monitoring technologies that could be applicable to or adapted for the law enforcement community

• Products designed for brand management that may be applicable to or adapted for the law enforcement community

Usage: Information provided in response to this request may be selected for inclusion by CJTEC in a public report on technologies that measure and monitor community perception, opinion, and/or satisfaction related to law enforcement. This RFI is intended to solicit important general information from vendors, which may lead to later discussions to help understand best practices, case studies, product technical specifications, etc. that might be used in the report.

CJTEC is seeking a response from technology vendors that includes:

1. Name and description of product

2. Case studies or user testimonials highlighting law enforcement or similar use cases

3. Research studies on efficacy of the product

4. Contact information for a future conversation (name, role, email, phone number)

An independent response should be submitted for each product that respondents would like CJTEC to consider for inclusion in the publication. NIJ encourages respondents to provide information in common file formats, such as Microsoft Word, pdf, or plain text. Each response should include contact information.

Jennifer Scherer,
Acting Director and Principal Deputy Director, National Institute of Justice.

[FR Doc. 2022-03618 Filed 2-18-22; 8:45 am]

BILLING CODE 4410-18-P